DEPARTMENT OF HEALTH AND HUMAN SERVICES

Administration for Children and Families

Submission for OMB Review; Comment Request

Title: Implementation Grants to Develop a Model Intervention for Youth/Young Adults with Child Welfare Involvement at Risk of Homelessness: Phase II—Extension.

OMB NO.: 0970-0445.

Description: The Administration for Children and Families (ACF) at the U.S. Department of Health and Human Services (HHS) intends to collect data for an evaluation of the initiative, Implementation Grants to Develop a Model Intervention for Youth/Young Adults with Child Welfare Involvement at Risk of Homelessness: Phase II. This builds on the previously approved “Planning Grants to Develop a Model Intervention for Youth/Young Adults with Child Welfare Involvement at Risk of Homelessness” (Phase I). The Phase II data collection described in this Notice was approved by the Office of Management and Budget in July 2017. This request is for a time extension for data collection under OMB# 0970-0445. There are no changes to the previously approved information collection. Due to delays, data collection has not begun and will need to extend beyond the current expiration date of July 2018. Grantees are receiving an additional year to conduct their work. To capture data at a similar point in the development of their efforts, data collection will be delayed.

Phase II is an initiative, funded by the Children's Bureau (CB) within ACF, that will support implementation grants for interventions designed to intervene with youth who have experienced time in foster care and are most likely to have a challenging transition into adulthood, including homelessness and unstable housing experiences. CB awarded six implementation grants (Phase II) in September 2015. During the implementation phase, organizations will conduct a range of activities to fine-tune their comprehensive service model, determine whether their model is being implemented as intended, and develop plans to evaluate the model under a potential future funding opportunity (Phase III). During Phase II, ACF will engage a contractor to: Conduct a cross-site process evaluation. Data collected for the process evaluation will be used to assess grantees' organizational capacity to implement and evaluate the model interventions and to monitor each grantee's progress toward achieving the goals of the implementation period.

Data for the process evaluation will be collected through: Interviews during site visits.

Respondents: Grantee agency directors and staff; partner agency directors and staff. Partner agencies may vary by site, but are expected to include child welfare, mental health, and youth housing/homelessness agencies.

Annual Burden Estimates
Instrument | Total/annual number of respondents | Number of responses per respondent | Average burden hours per response | Total/annual burden hours
Grantee Site Visit-Semi-Structured Interview Topic Guide | 60 | 1 | 1.5 | 90
Estimated Total Annual Burden Hours |  |  |  | 90

Additional Information: Copies of the proposed collection may be obtained by writing to the Administration for Children and Families, Office of Planning, Research and Evaluation, 330 C Street, SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Mary B. Jones,
ACF/OPRE Certifying Officer.

[FR Doc. 2018-10178 Filed 5-11-18; 8:45 am]

BILLING CODE 4184-29-P